DEPARTMENT OF VETERANS AFFAIRS

Advisory Committee on Minority Veterans; Notice of Meeting

The Department of Veterans Affairs (VA) gives notice under the Federal Advisory Committee Act, 5 U.S.C. App. 2., that the Advisory Committee on Minority Veterans will conduct a virtual site visit on April 20-April 22, 2021, with the Bay Pines VA Healthcare System, St. Petersburg Regional Benefit Office, and Bay Pines National Cemetery in Tampa/St. Petersburg, Florida via Webex Events. The meeting sessions will begin and end as follows:

Dates | Times | Location
April 20, 2021 | 11 a.m.-3 p.m.—Eastern Daylight Time (EDT) | See WebEx link and call-in information below.
April 21, 2021 | 11 a.m.-3 p.m. EDT | See WebEx link and call-in information below.
April 22, 2021 | 11 a.m.-3 p.m. EDT | See WebEx link and call-in information below.

This meeting sessions are open to the public. To access the meeting, please use the Webex events link and access codes shown below:

https://veteransaffairs.webex.com/veteransaffairs/onstage/g.php?PRID=722998c44b7a890eb0272d75c1107023

April 20, 2021: Access Code: 199 424 8659

April 21, 2021: Access Code: 199 872 5560

April 22, 2021: Access Code: 199 944 8232

Event Password: 1baypines!

Or, to join via phone, call USA Toll Number 1-404-397-1596, enter Access Code.

The purpose of the Committee is to advise the Secretary on the administration of VA benefits and services to minority Veterans; assess the needs of minority Veterans; and evaluate whether VA compensation, medical and rehabilitation services, outreach, and other programs are meeting those needs. The Committee makes recommendations to the Secretary regarding such activities.

On Tuesday, April 20, the Committee will receive briefings from the VISN 8 Network Director, James A. Haley Veterans Hospital and Bay Pines VA Healthcare System. On Wednesday, April 21, the Committee will receive briefings from the St. Petersburg Regional Benefits Office and Bay Pines National Cemetery. On Thursday, April 22, the Committee will conduct a virtual town hall meeting from 11:15 a.m. to 1 p.m., receive Public Comments from 1:45 p.m. to 2 p.m. and conduct the Leadership Exit Briefing.

Individuals who speak are invited to submit a 1-2-page summary of their comments no later than April 9, 2021 for inclusion in the official meeting record. Members of the public may also submit written statements for the Committee's review to Ms. Juanita Mullen, at Juanita.Mullen@va.gov. Any member of the public seeking additional information should contact Ms. Mullen or Mr. Dwayne Campbell (202) 461-6191.

Dated: March 23, 2021.
Jelessa M. Burney,
Federal Advisory Committee Management Officer.

[FR Doc. 2021-06327 Filed 3-25-21; 8:45 am]

BILLING CODE